DEPARTMENT OF COMMERCE

[I.D. 082203A]

Submission for OMB Review; Comment Request

The Department of Commerce has submitted to the Office of Management and Budget (OMB) for clearance the following proposal for collection of information under the provisions of the Paperwork Reduction Act (44 U.S.C. Chapter 35).

Agency: National Oceanic and Atmospheric Administration.

Title: Commercial Fisheries Employment Survey.

Form Number(s): None.

OMB Approval Number: None.

Type of Request: Regular submission.

Burden Hours: 583.

Number of Respondents: 7,000.

Average Hours Per Response: 5 minutes.

Needs and Uses: The data will be collected to estimate full- and part-time employment in commercial fisheries. This information is needed to identify how many individuals are affected by proposed commercial fishing regulations. The respondents will be commercial fishing vessel owners and captains.

Affected Public: Individuals or households, business or other for-profit organizations.

Frequency: One-time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: August 20, 2003.
Gwellnar Banks,
Management Analyst, Office of the Chief Information Officer.

[FR Doc. 03-21952 Filed 8-26-03; 8:45 am]

BILLING CODE 3510-22-S